DEPARTMENT OF ENERGY

Federal Energy Regulatory Commission

[Docket No. ER02-2330-029 and ER04-1255-000]

New England Power Pool and ISO New England Inc.; Notice of Technical Conference

January 28, 2005.

On January 13, 2005 ISO New England, Inc. requested that the Federal Energy Regulatory Commission convene a technical conference on Friday, March 4, 2005, in Boston, Massachusetts, to address the prioritization and coordination of the interrelated market improvements currently being developed and considered by the ISO and market participants in New England. Specifically, the ISO requests that the Commission facilitate discussions regarding the day-ahead load response program (DALRP) and the special case nodal pricing (SCNP), including a discussion of how those programs fit within the overall market development plan for New England.

To this end, the Commission will host a technical conference on Friday, March 4, 2005, to address the issues raised by the above described request. The conference will be held at the Seaport World Trade Center (Harborview Ballroom), 200 Seaport Boulevard, Boston, Massachusetts 02210. The conference is scheduled to begin at 9 a.m. and end at approximately 4 p.m. (e.s.t.). Commissioners are expected to attend and participate. An agenda will be forthcoming.

Although registration is not a strict requirement, in-person attendees are asked to register for the conference on-line by close of business on Wednesday, March 2, 2005 at http://www.ferc.gov/whats-new/registration/iso-03-04-form.asp.

Transcripts of the conference will be immediately available from Ace Reporting Company (202-347-3700 or 1-800-336-6646) for a fee. They will be available for the public on the Commission's eLibrary system seven calendar days after FERC receives the transcript. Additionally, Capitol Connection offers the opportunity for remote listening of the conference via Real Audio or a Phone Bridge Connection for a fee. Persons interested in making arrangements should contact David Reininger or Julia Morelli at the Capitol Connection (703-993-3100) as soon as possible or visit the Capitol Connection Web site at http://www.capitolconnection.org and click on “FERC.”

For more information about the conference, please contact Anna Cochrane at (202) 502-6357, anna.cochrane@ferc.gov or Sarah McKinley at (202) 502-8004, sarah.mckinley@ferc.gov.

Magalie R. Salas,
Secretary.

[FR Doc. E5-441 Filed 2-3-05; 8:45 am]

BILLING CODE 6717-01-P